NUCLEAR REGULATORY COMMISSION

10 CFR Chapter I

[NRC-2018-0142]

Backfitting, Forward Fitting, and Issue Finality Guidance

AGENCY: Nuclear Regulatory Commission.

ACTION: Draft NUREG; request for comment; extension of comment period.

SUMMARY: On March 23, 2020, the U.S. Nuclear Regulatory Commission (NRC) issued for public comment draft NUREG-1409, “Backfitting Guidelines,” Revision 1. The public comment period was originally scheduled to close on May 22, 2020. In recognition of the impacts of the current COVID-19 public health emergency (PHE) across the nation, the NRC has decided to extend the public comment period to allow more time for members of the public to develop and submit comments.

DATES: The due date of comments requested in the document published on March 23, 2020 (85 FR 16278) is extended. Comments should be filed no later than July 22, 2020. Comments received after this date will be considered if it is practical to do so, but the Commission is able to ensure consideration only for comments received before this date. The NRC staff will continue to monitor the COVID-19 PHE to determine if an additional extension may be warranted.

ADDRESSES: You may submit comments by any of the following methods:

• Federal Rulemaking Website: Go to https://www.regulations.gov and search for Docket ID NRC-2018-0142. Address questions about NRC docket IDs in Regulations.gov to Jennifer Borges; telephone: 301-287-9127; email: Jennifer.Borges@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Tim Reed, telephone: 301-415-1462, email: Timothy.Reed@nrc.gov; or Audrey Klett, telephone: 301-415-0489, email: Audrey.Klett@nrc.gov. Both are staff of the Office of Nuclear Reactor Regulation, U.S. Nuclear Regulatory Commission, Washington, DC 20555-0001.

SUPPLEMENTARY INFORMATION:

I. Obtaining Information and Submitting Comments

A. Obtaining Information

Please refer to Docket ID NRC-2018-0142 when contacting the NRC about the availability of information for this action. You may obtain publicly-available information related to this action by any of the following methods:

• Federal Rulemaking Website: Go to https://www.regulations.gov and search for Docket ID NRC-2018-0142.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

B. Submitting Comments

Please include Docket ID NRC-2018-0142 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On March 23, 2020, the NRC issued for public comment draft NUREG-1409, “Backfitting Guidelines,” Revision 1 (ADAMS Accession No. ML18109A498). This draft NUREG provides guidance on the implementation of the backfitting and issue finality provisions of the NRC's regulations and the NRC's forward fitting policy in accordance with Management Directive and Handbook 8.4, “Management of Backfitting, Forward Fitting, Issue Finality, and Information Requests” dated September 20, 2019 (ADAMS Accession No. ML18093B087). The public comment period was originally scheduled to close on May 22, 2020. In recognition of the impacts of the current COVID-19 PHE across the nation, the NRC has decided to extend the public comment period on this document until July 22, 2020, to allow more time for members of the public to develop and submit comments.

Dated: April 30, 2020.
For the Nuclear Regulatory Commission.
Jennifer L. Dixon-Herrity,
Chief, Plant Licensing Branch IV, Division of Operating Reactor Licensing, Office of Nuclear Reactor Regulation.

[FR Doc. 2020-09654 Filed 5-14-20; 8:45 am]

BILLING CODE 7590-01-P